NUCLEAR REGULATORY COMMISSION

[Docket No. 50-443; NRC-2010-0206]

NextEra Energy Seabrook, LLC; Seabrook Station, Unit 1

AGENCY: Nuclear Regulatory Commission.

ACTION: Supplemental environmental impact statement; issuance.

SUMMARY: The U.S. Nuclear Regulatory Commission (NRC) is issuing a final plant-specific supplement, Supplement 46, to NUREG-1437, “Generic Environmental Impact Statement for License Renewal of Nuclear Plants” (GEIS), regarding the renewal of NextEra Energy Seabrook, LLC (NextEra) operating license NPF-86 for an additional 20 years of operation for Seabrook Station, Unit 1 (Seabrook).

DATES: The final Supplement 46 to the GEIS is available as of August 7, 2015.

ADDRESSES: Please refer to Docket ID NRC-2010-0206 when contacting the NRC about the availability of information regarding this document. You may obtain publicly-available information related to this document using any of the following methods:

• Federal Rulemaking Web site: Go to http://www.regulations.gov and search for Docket ID NRC-2010-0206. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 46 to the GEIS is in ADAMS under Accession No. ML15209A575 (Volume 1) and ML15209A270 (Volume 2).

• NRC's PDR: You may examine and purchase copies of public documents at the NRC's PDR, Room O1-F21, One White Flint North, 11555 Rockville Pike, Rockville, Maryland 20852.

FOR FURTHER INFORMATION CONTACT: Lois James, Office of Nuclear Reactor Regulation, U.S. Nuclear Regulatory Commission, Washington, DC 20555-0001; telephone: 301-415-3306; email: Lois.James@nrc.gov.

SUPPLEMENTARY INFORMATION:

I. Background

In accordance with § 51.118 of Title 10 of the Code of Federal Regulations, the NRC is making available final Supplement 46 to the GEIS regarding the renewal of NextEra operating license NPF-86 for an additional 20 years of operation for Seabrook. Draft Supplement 46 to the GEIS was noticed by the NRC in the Federal Register on August 5, 2011 (76 FR 47612), and noticed by the Environmental Protection Agency on August 12, 2011 (76 FR 50214). The public comment period on draft Supplement 46 to the GEIS ended on October 26, 2011. In April 2013, a supplement to draft Supplement 46 was published. The supplement to draft Supplement 46 was noticed by the Environmental Protection Agency on May 3, 2013 (78 FR 26027). The end of the comment period for the supplement to draft Supplement 46 was on June 30, 2013. The comments received on the draft Supplement 46 published in 2011 and supplement to the draft Supplement in 2013 are addressed in final Supplement 46 to the GEIS. Final Supplement 46 to the GEIS is available as indicated in the ADDRESSES section of this document.

II. Discussion

As discussed in Section 9.4 of the final Supplement 46 to the GEIS, the NRC determined that the adverse environmental impacts of license renewal for Seabrook are not so great that preserving the option of license renewal for energy-planning decisionmakers would be unreasonable. This recommendation is based on: (1) the analysis and findings in the GEIS; (2) information provided in the environmental report and other documents submitted by NextEra; (3) consultation with Federal, State, local, and Tribal agencies; (4) the NRC staff's independent environmental review; and (5) consideration of public comments received during the scoping process and on the draft Supplemental Environmental Impact Statement.

Dated at Rockville, Maryland, this 30th day of July 2015.
For the Nuclear Regulatory Commission.
James G. Danna,
Chief, Projects Branch 2, Division of License Renewal, Office of Nuclear Reactor Regulation.

[FR Doc. 2015-19408 Filed 8-6-15; 8:45 am]

BILLING CODE 7590-01-P